GENERAL SERVICES ADMINISTRATION

[Notice-MA-2015-03; Docket No. 2015-0002; Sequence 19]

Maximum Per Diem Rates for the Continental United States (CONUS)

AGENCY: Office of Government-wide Policy (OGP), General Services Administration (GSA).

ACTION: Notice of GSA Per Diem Bulletin FTR 16-01, Fiscal Year (FY) 2016 Continental United States (CONUS) per diem rates.

SUMMARY: The General Services Administration's (GSA) Fiscal Year (FY) 2016 per diem review has resulted in lodging and meal allowance changes for certain locations within the Continental United States (CONUS) to provide for reimbursement of Federal employees' expenses covered by per diem.

DATES: Effective: September 1, 2015.

Applicability: This notice applies to travel performed on or after October 1, 2015 through September 30, 2016.

FOR FURTHER INFORMATION CONTACT: For clarification of content, contact Ms. Jill Denning, Office of Government-wide Policy, Office of Asset and Transportation Management, at 202-208-7642, or by email at travelpolicy@gsa.gov. Please cite Notice of GSA Per Diem Bulletin FTR 16-01.

SUPPLEMENTARY INFORMATION:

Background: GSA identified two new non-standard areas (NSAs): Grand Lake, CO (Grand County) and Pecos, TX (Reeves County). Additionally, the NSA of Belle Mead, NJ has been renamed Somerset, which more accurately recognizes the major city in the county.

The Government-wide Travel Advisory Committee (GTAC) recommended that GSA review the standard CONUS lodging rate annually instead of every three years, and GSA has accepted that recommendation, starting for FY2016 rates. The standard CONUS lodging rate will increase to $89 from $83. The meals and incidental expense (M&IE) rate tiers were revised for the first time since FY 2010. The standard CONUS M&IE rate is now based on the Consumer Price Index (CPI) Food away from home measure, and will be $51 for FY 2016. The M&IE rates for the NSAs continue to be based on survey data from local restaurants in their respective areas, and now range from $54-$74.

The CONUS per diem rates prescribed in Bulletin 16-01 may be found at www.gsa.gov/perdiem. GSA bases the lodging rates on the average daily rate that the lodging industry reports to an independent organization. If a lodging rate or a per diem rate is insufficient to meet necessary expenses in any given location, Federal executive agencies can request that GSA review that location. Please review numbers five and six of GSA's per diem Frequently Asked Questions at (www.gsa.gov/perdiemfaqs) for more information on the special review process.

In addition, the Federal Travel Regulation (FTR) allows for actual expense reimbursement as provided in §§ 301-11.300 through 301-11.306.

GSA issues and publishes the CONUS per diem rates, formerly published in Appendix A to 41 CFR Chapter 301, solely on the Internet at www.gsa.gov/perdiem. GSA also now solely publishes the M&IE meal breakdown table, which is used when employees need to deduct meals from their M&IE reimbursement per direction in FTR § 301-11.18, at www.gsa.gov/mie. This process, implemented in 2003 for lodging and 2015 for the M&IE table, ensures more timely changes in per diem rates established by GSA for Federal employees on official travel within CONUS. Notices published periodically in the Federal Register, such as this one, now constitute the only notification of revisions in CONUS per diem rates to agencies.

Dated: August 14, 2015.
Christine J. Harada,
Associate Administrator, Office of Government-wide Policy.

[FR Doc. 2015-21597 Filed 8-31-15; 8:45 am]

BILLING CODE 6820-14-P